DEPARTMENT OF THE INTERIOR

Bureau of Indian Affairs

25 CFR Part 170

[Docket No. FHWA-2002-12229]

RIN 1076-AE17

Indian Reservation Roads Program

AGENCY: Bureau of Indian Affairs, Interior.

ACTION: Proposed rule; extension of comment period.

SUMMARY: The Bureau of Indian Affairs (BIA) has been conducting information and education meetings with the public as noticed in the Federal Register on August 7, 2002 (67 FR 51328). The document of August 7, 2002, noted that all comments were due on or before October 7, 2002. This document extends that comment period to November 7, 2002.

DATES: All comments must be received by November 7, 2002.

ADDRESSES: Mail or hand deliver written comments to the docket number appearing at the top of this document to the U.S. Department of Transportation, Dockets Management Facility, Room PL-401, 400 Seventh Street, SW., Washington, DC 20590-0001 or submit electronically at http://dms.dot.gov/submit. All comments should include the docket number appearing in the heading of this document. All comments received will be available for examination and copying at the Dockets Management Facility between 9 a.m. and 5 p.m., ET, Monday through Friday, except Federal holidays. Those desiring notification of receipt of comments must include a self-addressed, stamped postcard, or you may print the acknowledgment page that appears after comments electronically.

FOR FURTHER INFORMATION CONTACT: LeRoy Gishi, Chief, Division of Transportation, Bureau of Indian Affairs, 1849 C Street, NW., MS 4058 MIB, Washington, DC 20240, (202) 208-4359 between 8 a.m. to 5 p.m., ET, Monday through Friday, except Federal holidays.

SUPPLEMENTARY INFORMATION: The purpose of the information and educational meetings was to involve affected and interested parties in the administration of the Indian Reservation Roads Program. There has been a series of 12 information and education meetings throughout the country where public participation, in the form of questions and requests for clarification of the proposed rulemaking, was encouraged. Because of the overwhelming public response to the proposed rulemaking, the BIA believes it prudent to extend the comment period to November 7, 2002. This extension will facilitate the maximum direct participation of all interested parties in this important bureau process.

Dated: October 1, 2002.
Neal A. McCaleb,
Assistant Secretary—Indian Affairs.

[FR Doc. 02-25433 Filed 10-4-02; 8:45 am]

BILLING CODE 4310-LY-P